FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 012324.

Title: NMCC/Grimaldi Space Charter Agreement.

Parties: Grimaldi Deep Sea S.p.A; Grimaldi Euromed S.p.A.; Nissan Motor Car Carrier Co., Ltd.; World Logistics Service (U.S.A.), Inc.

Filing Party: Eric. C. Jeffrey, Esq.; Nixon Peabody LLP; 401 9th Street NW., Suite 900, Washington, DC 20004.

Synopsis: The Agreement authorizes the parties to charter space to/from one another for the transportation of vehicles and other Ro/Ro cargo in the trade between the United States, on the one hand, and Europe, Africa, the Mediterranean, and the Middle East on the other hand.

By Order of the Federal Maritime Commission.
Dated: March 27, 2015.
Karen V. Gregory,
Secretary.

[FR Doc. 2015-07487 Filed 4-1-15; 8:45 am]

BILLING CODE CODE 6730-01-P